DEPARTMENT OF LABOR

Office of the Secretary

Submission for OMB Review; Comment Request

July 30, 2003.

The Department of Labor (DOL) has submitted the following public information collection request (ICR) to the Office of Management and Budget (OMB) for review and approval in accordance with the Paperwork Reduction Act of 1995 (Pub. L. 104-13; 44 U.S.C. Chapter 35). A copy of this ICR, with applicable supporting documentation, may be obtained by calling the Department of Labor. To obtain documentation, contact Vanessa Reeves on 202-693-4124 (this is not a toll-free number) or e-mail: reeves.vanessa2@dol.gov.

Comments should be sent to the Office of Information and Regulatory Affairs, Attn: OMB Desk for the Employment and Training Administration (ETA), Office of Management and Budget, Room 10235, Washington, DC 20503 (202-395-7316 / this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Employment and Training Administration.

Type of Review: Extension of a currently approved collection.

Title: Reporting and Performance Standards System for Indian and Native American Programs Under Title I, Section 166 of the Workforce Investment Act (WIA).

OMB Number: 1205-0422.

Affected Public: Not-for-profit institutions and State, Local, or Tribal govt.

Frequency: Semi-annually and Annually.

Type of Response: Recordkeeping and Reporting.

Number of Respondents: 145.

Required section 166 activity (comprehensive services) | DINAP form No. | Number of respondents | Responses per year | Total responses | Hours per response | Total burden hours
Plan Narrative |  | 145 | 1 | 145 | 12.00 | 1,740
Recordkeeping |  | 145 |  | 17,000 | 3 | 51,000
Participant Reporting | ETA 9084 | 145 | 2 | 290 | 9.67 | 2,804
Total |  | 145 | 3 | 17,435 | 24.67 | 55,544

Required section 166 activity (supplemental youth services) | DINAP form No. | Number of respondents | Responses per year | Total responses | Hours per response | Total burden hours
Plan Narrative |  | 105 | 1 | 105 | 6 | 630
Recordkeeping |  | 105 |  | 8,000 | 2 | 16,000
Participant Reporting | ETA 9085 | 105 | 2 | 210 | 9.67 | 2,031
Total |  |  | 3 | 8,315 | 17.67 | 18,661

Total Annualized capital/startup costs: $0.

Total annual costs (operating/maintaining systems or purchasing services): $0.

Description: This is an extension of a currently-approved collection of participant information relating to the operation of employment and training programs for Indians and Native Americans under title I, section 166 of the Workforce Investment Act (WIA). It also contains the basis of the new performance standards system for WIA section 166 grantees. The burden estimates for this collection include the Supplemental Youth Services Program as well as the Comprehensive Services Program authorized under section 166. Burden estimates do not include those tribes currently participating in the demonstration under Pub. L. 102-477.

Ira L. Mills,
Departmental Clearance Officer.

[FR Doc. 03-19848 Filed 8-4-03; 8:45 am]

BILLING CODE 4510-30-M